ENVIRONMENTAL PROTECTION AGENCY

40 CFR Part 62

[MO 117-1117a; FRL-6900-8]

Approval and Promulgation of State Plans for Designated Facilities and Pollutants; Control of Landfill Emissions From Municipal Solid Waste Landfills; State of Missouri

AGENCY: Environmental Protection Agency (EPA).

ACTION: Direct final rule.

SUMMARY: EPA is approving a revision to the state of Missouri's section 111(d) plan for controlling emissions from existing municipal solid waste (MSW) landfills. The plan adopts the revisions to the Federal Emission Guidelines published June 16, 1998, and February 24, 1999. Approval of the revised plan will ensure that the state plan contains the most current Federal requirements.

DATES: This rule is effective on January 16, 2001 without further notice, unless EPA receives adverse comment by December 15, 2000. If EPA receives such comments, it will publish a timely withdrawal of the direct final rule in the Federal Register and inform the public that the rule will not take effect.

ADDRESSES: Written comments must be submitted to Wayne Kaiser, Air Planning and Development Branch, 901 North 5th Street, Kansas City, Kansas 66101.

Copies of documents relative to this action are available for public inspection during normal business hours at the above listed Region 7 location. The interested persons wanting to examine these documents should make an appointment with the office at least 24 hours in advance.

FOR FURTHER INFORMATION CONTACT: Wayne Kaiser at (913) 551-7603.

SUPPLEMENTARY INFORMATION: Throughout this document whenever “we, us, or our” is used, we mean EPA.

Background

Standards and guidelines for new and existing MSW landfills were promulgated under the authority of sections 111 and 129 of the CAA. These standards are 40 CFR part 60, subpart WWW, new source performance standards (NSPS) for new MSW landfills, and subpart Cc, emission guidelines (EG) for existing MSW landfills. The final NSPS and EG were published in the Federal Register on March 12, 1996.

EPA subsequently revised these landfill rules twice, on June 16, 1998, and February 24, 1999. These actions amend, correct errors, and clarify regulatory text of the March 12, 1996 rule.

We first approved Missouri's 111(d) plan for MSW landfills on April 24 1998 (63 FR 20320.) The state's plan consists primarily of two state rules which adopt the Federal landfill requirements promulgated on March 12, 1996. One state rule is applicable to the St. Louis area, 10 CSR 10-5.490, and the other is applicable to the remainder of the state, 10 CSR 10-6.310.

The Missouri Department of Natural Resources (MDNR) recently revised these two rules to incorporate the EPA revisions. The state rules became effective on July 30, 2000. The state has incorporated these revised rules into its revised 111(d) plan and submitted the plan and rules to us for approval pursuant to 111(d).

We have evaluated the state plan revision against criteria in the EG and against the plan approval criteria at 40 CFR 60.23 through 60.26, subpart B, “Adoption and Submittal of State Plans for Designated Facilities.”

The state plan meets all of the applicable requirements of 40 CFR part 60, subpart B and subpart Cc.

Final Action

We are approving a revision to the Missouri 111(d) plan for MSW landfills which incorporates the most recent EPA requirements.

Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves preexisting requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the CAA. This rule also is not subject to Executive Order 13045 (62 FR 19885, April 23, 1997), because it is not economically significant.

In reviewing state plan submissions, our role is to approve state choices, provided that they meet the criteria of the CAA. In this context, in the absence of a prior existing requirement for the state to use voluntary consensus standards (VCS), we have no authority to disapprove a state plan for failure to use VCS. It would thus be inconsistent with applicable law for EPA, when it reviews a state plan, to use VCS in place of a state plan that otherwise satisfies the provisions of the CAA. Thus, the requirements of section 12(d) of the National Technology Transfer and Advancement Act of 1995 (15 U.S.C. 272 note) do not apply. As required by section 3 of Executive Order 12988 (61 FR 4729, February 7, 1996), in issuing this rule, we have taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the Executive Order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. We will submit a report containing this rule and other required information to the United States Senate, the United States House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 16, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 62

Environmental protection, Air pollution control, Carbon monoxide, Hydrocarbons, Incorporation by reference, Intergovernmental relations, Ozone, Particulate matter, Reporting and recordkeeping requirements, Sulfur oxides.

Authority: 42 U.S.C. 7401 et seq.

Dated: October 25, 2000.
Dennis Grams,
Regional Administrator, Region 7.

Chapter I, title 40 of the Code of Federal Regulations is amended as follows:

PART 62—[AMENDED]

1. The authority citation for Part 62 continues to read as follows:

Authority: 42 U.S.C. 7401-7671q.

Subpart AA—Missouri

2. Section 62.6357 is amended by adding paragraph (d) to read as follows:

§ 62.6357 Identification of plan.

* * * * *

(d) Amended plan for the control of air emissions from Municipal Solid Waste Landfills submitted by the Missouri Department of Natural Resources on September 8, 2000. The effective date of the amended plan is January 16, 2001.

[FR Doc. 00-29058 Filed 11-14-00; 8:45 am]

BILLING CODE 6560-50-P